DEPARTMENT OF THE INTERIOR

Bureau of Land Management

[WY-100-05-1310-DB]

Notice of Meeting of the Pinedale Anticline Working Group's Socioeconomic Task Group

AGENCY: Bureau of Land Management, Interior.

ACTION: Notice of public meeting.

SUMMARY: In accordance with the Federal Land Policy and Management Act (1976) and the Federal Advisory Committee Act (1972), the U.S. Department of the Interior, Bureau of Land Management (BLM) Pinedale Anticline Working Group (PAWG) Socioeconomic Task Group (subcommittee) will meet in Big Piney, Wyoming, for a business meeting. Task Group meetings are open to the public.

DATES: The PAWG Socioeconomic Task Group will meet April 12, 2005 from 10 a.m. until 2 p.m.

ADDRESSES: The meeting of the PAWG Socioeconomic Task Group will be held at the Big Piney Library at 106 S. Fish, Big Piney, WY.

FOR FURTHER INFORMATION CONTACT: Roy Allen, BLM/Socioeconomic TG Liaison, Bureau of Land Management, Wyoming State Office, 5353 Yellowstone Rd., Cheyenne, WY 82009, or P.O. Box 1828, Cheyenne, WY 82003; 307-775-6031.

SUPPLEMENTARY INFORMATION: The Pinedale Anticline Working Group (PAWG) was authorized and established with release of the Record of Decision (ROD) for the Pinedale Anticline Oil and Gas Exploration and Development Project on July 27, 2000. The PAWG advises the BLM on the development and implementation of monitoring plans and adaptive management decisions as development of the Pinedale Anticline Natural Gas Field proceeds for the life of the field. The agenda for these meetings will include discussion and refinement of the socioeconomic monitoring plan to assess impacts of development in the Pinedale Anticline gas field. Final Task Group recommendations are due to the PAWG in April, 2005. At a minimum, public comments will be heard just prior to adjournment of the meeting.

Dated: March 8, 2005.
Bill Wadsworth,
Acting Field Office Manager.

[FR Doc. 05-5101 Filed 3-14-05; 8:45 am]

BILLING CODE 4310-22-P